DEPARTMENT OF COMMERCE

International Trade Administration

(A-583-837)

Polyethylene Terephthalate Film, Sheet, and Strip from Taiwan: Notice of Amended Final Results of Antidumping Duty Administrative Review and Correction to the Final Results of Administrative Review

AGENCY: Import Administration, International Trade Administration, Department of Commerce.

ACTION: Notice of Amended Final Results of Antidumping Duty Administrative Review.

EFFECTIVE DATE: September 29, 2004.

FOR FURTHER INFORMATION CONTACT: Tom Martin or Zev Primor at (202) 482-3936 and (202) 482-4114, respectively; Office of AD/CVD Enforcement Office IV, Import Administration, Room 1870, International Trade Administration, U.S. Department of Commerce, 14th Street and Constitution Avenue, N.W., Washington, D.C. 20230.

SUMMARY: The Department of Commerce (“the Department”) is amending the final results of administrative review of the antidumping duty order on polyethylene terephthalate film, sheet, and strip (“PET film”) from Taiwan to reflect the correction of a ministerial error in those final results. The Department is also correcting the incorrect “All Others” rate that was published in the final results. The period of review (“POR”) is December 21, 2001, through June 30, 2003.

SUPPLEMENTARY INFORMATION:

Background

On August 13, 2004, the Department published the final results of administrative review of the antidumping duty order on PET film from Taiwan. See Polyethylene Terephthalate Film, Sheet, and Strip from Taiwan: Final Results of Antidumping Duty Administrative Review, 69 FR 50166 (August 13, 2004) (“Final Results”). On August 12, 2004, the respondent Nan Ya Plastics Corporation, Ltd. (“Nan Ya”) submitted comments alleging that the Department made a ministerial error in the Final Results, by deducting certain expenses from the calculation of constructed export price. On August 18, 2004, the petitioners¹ filed rebuttal comments.

¹ The petitioners in this review are DuPont Teijin Films, Mitsubishi Polyester Film of America, and Toray Plastics (America), Inc. (collectively, the petitioners).

Scope of the Review

For purposes of this administrative review, the products covered are all gauges of raw, pretreated, or primed PET film, whether extruded or coextruded. Excluded are metallized films and other finished films that have had at least one of their surfaces modified by the application of a performance-enhancing resinous or inorganic layer more than 0.00001 inches thick. Imports of PET film are currently classifiable in the Harmonized Tariff Schedule of the United States (“HTSUS”) under item number 3920.62.00. HTSUS subheadings are provided for convenience and customs purposes. The written description of the scope of this proceeding is dispositive.

Amended Final Results

After reviewing the allegation and the rebuttal comments, we have determined that the Final Results did include a ministerial error, and we have amended our calculations accordingly. The revised final weighted-average dumping margin for Nan Ya, as indicated in the “Amended Final Results” section below, is 1.94 percent. For a detailed discussion of the Department's analysis of the ministerial error allegation, see Memorandum from Mark Manning, Acting Program Manager, to Holly A. Kuga, Senior Director, Office 4, “Allegation of Ministerial Error,” dated concurrently with this notice.

Additionally, in the Final Results, the Department published an incorrect rate for the “All Others” category. Specifically, the Department incorrectly identified the “All Others” rate as 2.56 percent, rather than the correct rate of 2.40 percent. The correct rate of 2.40 percent was calculated in the amended final results of the less-than-fair-value (“LTFV”) investigation. See Notice of Amended Final Antidumping Duty Determination of Sales at Less Than Fair Value and Antidumping Duty Order: Polyethylene Terephthalate Film, Sheet, and Strip (PET Film) from Taiwan, 67 FR 44174 (July 1, 2002) (“Amended LTFV Final”).

Pursuant to section 751(h) of the Tariff Act of 1930, as amended (“the Act”), we have amended the Final Results by correcting the ministerial error. Consequently, we will issue amended cash-deposit instructions to U.S. Customs and Border Protection (“CBP”) to reflect the amendment of the final results of review. The revised weighted-average dumping margins are as follows:

Manufacturer/exporter | Margin (percent)
Nan Ya Plastics Corporation, Ltd. | 1.94

Assessment

The Department will determine, and CBP will assess, antidumping duties on all appropriate entries. Pursuant to 19 C.F.R. § 351.212(b)(1), we calculated ad valorem duty assessment rates based on the ratio of the total amount of the dumping margins calculated for the examined sales to the total entered value of those same sales. For those sales where the respondent did not report actual entered value, we calculated importer-specific assessment rates based upon the net U.S. price. In accordance with 19 C.F.R. § 351.106(c)(2), we will instruct CBP to liquidate without regard to antidumping duties all entries of subject merchandise during the POR for which the importer-specific assessment rate is zero or de minimis (i.e., less than 0.50 percent). To determine whether the per-unit duty assessment rates are de minimis (i.e., less than 0.50 percent), in accordance with the requirement set forth in 19 C.F.R. § 351.106(c)(2), we calculated importer-specific ad valorem ratios based on export prices. The Department will issue appropriate assessment instructions directly to CBP within 15 days of publication of these amended final results of review.

Cash Deposit Requirements

The following deposit requirements will be effective upon publication of this notice of amended final results of administrative review for all shipments of PET film from Taiwan entered, or withdrawn from warehouse, for consumption on or after the date of publication, as provided by section 751(a)(1) of the Act: (1) The cash deposit rates for Nan Ya will be the rate shown above; (2) for previously reviewed or investigated companies not listed above, the cash deposit rate will continue to be the company-specific rate published for the most recent period; (3) if the exporter is not a firm covered in this review, a prior review, or the original LTFV investigation, but the manufacturer is, the cash deposit rate will be the rate established for the most recent period for the manufacturer of the merchandise; and (4) if neither the exporter nor the manufacturer is a firm covered in these or any previous reviews conducted by the Department, the cash deposit rate will be the “All Others” rate established in the Amended LTFV Final, which is 2.40 percent.

These deposit requirements shall remain in effect until publication of the final results of the next administrative review.

Notification to Importers

This notice also serves as a final reminder to importers of their responsibility under 19 C.F.R. § 351.402(f)(2) to file a certificate regarding the reimbursement of antidumping duties prior to liquidation of the relevant entries during this review period. Failure to comply with this requirement could result in the Secretary's presumption that reimbursement of the antidumping duties occurred and the subsequent assessment of double antidumping duties.

Administrative Protective Orders

This notice also serves as the only reminder to parties subject to administrative protective orders (“APOs”) of their responsibility concerning the return or destruction of proprietary information disclosed under APO in accordance with 19 C.F.R. § 351.305. Timely written notification of the return/destruction of APO materials or conversion to judicial protective order is hereby requested. Failure to comply with the regulations and terms of an APO is a violation which is subject to sanction.

We are issuing and publishing these amended final results in accordance with sections 751(h)of the Act and 19 C.F.R. § 351.224.

Dated: September 17, 2004.
James J. Jochum,
Assistant Secretary for Import Administration.

[FR Doc. 04-21840 Filed 9-28-04; 8:45 am]

BILLING CODE 3510-DS-S